SOCIAL SECURITY ADMINISTRATION

[Docket No. SSA 2016-0031]

Privacy Act of 1974, as Amended; Computer Matching Program (SSA/Law Enforcement Agency (Source Jurisdiction))—Match Number 5001

AGENCY: Social Security Administration (SSA).

ACTION: Notice of a renewal of an existing computer matching program that will expire on April 9, 2017.

SUMMARY: In accordance with the provisions of the Privacy Act, as amended, this notice announces a renewal of an existing computer matching program that we are currently conducting with Source Jurisdiction.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Acting Executive Director, Office of Privacy and Disclosure, Office of the General Counsel, Social Security Administration, 617 Altmeyer Building, 6401 Security Boulevard, Baltimore, MD 21235-6401. All comments received will be available for public inspection at this address.

FOR FURTHER INFORMATION CONTACT: The Acting Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Glenn Sklar,
Acting Executive Director, Office of Privacy and Disclosure, Office of the General Counsel.

Notice of Computer Matching Program, SSA with the Law Enforcement Agency (Source Jurisdiction)

A. Participating Agencies

SSA and Source Jurisdiction.

B. Purpose of the Matching Program

The purpose of this matching program is to establish the terms, conditions, and safeguards under which we will conduct a computer matching program with Source Jurisdiction in accordance with the Privacy Act of 1974, as amended by the Computer Matching and Privacy Protection Act of 1988 (5 U.S.C. 552a), and the regulations and guidance promulgated thereunder, to identify individuals in the Source Jurisdiction who are (1) fleeing fugitive felons, parole violators, or probation violators, as defined by the Social Security Act (Act) and in accordance with the Martinez Settlement and the Clark Court Order, as defined below; and who are also (2) Supplemental Security Income (SSI) recipients, Retirement, Survivors and Disability Insurance (RSDI) beneficiaries, Special Veterans Benefit (SVB) beneficiaries, or representative payees for SSI recipients, RSDI beneficiaries, or SVB beneficiaries.

C. Authority for Conducting the Matching Program

Sections 1611(e)(4)(A), 202(x)(l)(A)(iv) and (v), and 804(a)(2) and (3) of the Act (42 U.S.C. 1382(e)(4)(A), 402(x)(l)(A)(iv) and (v), and 1004(a)(2) and (3)) prohibit the payment of SSI, RSDI, or SVB benefits to an SSI recipient, RSDI beneficiary, or SVB beneficiary for any month during which such individual flees to avoid prosecution, or custody or confinement after conviction, under the applicable laws of the jurisdiction from which the person flees, for a crime or attempt to commit a crime considered to be a felony under the laws of said jurisdiction. These sections of the Act also prohibit payment of SSI, RSDI, or SVB benefits to a recipient/beneficiary in jurisdictions that do not define such crimes as felonies, but as crimes punishable by death or imprisonment for a term exceeding 1 year (regardless of the actual sentence imposed), and to an individual who violates a condition of probation or parole imposed under Federal or state law. As a result of a settlement of a nationwide class action in Martinez v. Astrue, No. 08-4735 (N.D. Cal. September 24, 2009) (Martinez Settlement), our nonpayment of benefits under these sections of the Act is limited to individuals with certain flight-coded or escape-coded warrants. Further, as a result of a settlement of a nationwide class action in Clark v. Astrue, 06 Civ. 15521 (S.D. NY, April 13, 2012) (Clark Court Order), our nonpayment of benefits under these sections of the Act cannot be based solely on the existence of parole or probation arrest warrants. Sections 1631(a)(2)(B)(iii)(V), 205(j)(2)(C)(i)(V), and 807(d)(1)(E) of the Act (42 U.S.C. 1383(a)(2)(B)(iii)(V), 405(j)(2)(C)(i)(V), 1007(d)(1)(E)), which prohibit us from using a person as a representative payee when such person is a person described in sections 1611(e)(4)(A), 202(x)(1)(A)(iv), or 804(a)(2) of the Act.

The legal authority for our disclosure of information to the Source Jurisdiction is: Sections 1106(a), 1611(e)(5), 1631(a)(2)(B)(xiv), 202(x)(3)(C), 205(j)(2)(B)(iii) and 807(b)(3) of the Act; the Privacy Act of 1974, as amended by the Computer Matching and Privacy Protection Act of 1988 (5 U.S.C. 552a(b)(3)); and our disclosure regulations promulgated at 20 CFR 401.150. The settlement terms in Martinez v. Astrue and Clark v. Astrue do not restrict this disclosure authority in any manner.

D. Categories of Records and Persons Covered by the Matching Program

The Source Jurisdiction will identify individuals who are fleeing fugitive felons, probation violators, or parole violators in its records originating from various databases. The Source Jurisdiction will prepare and disclose its records electronically (e.g., Government to Government Services Online) with clear identification of the record source. We will match the following systems of records with the incoming Source Jurisdiction records to determine individuals who receive SSI, RSDI, SVB benefits, or individuals serving as representative payees: Supplemental Security Income Record and Special Veterans Benefits (SSR/SVB), 60-0103, published at 71 FR 1830 on January 11, 2006 and updated on December 10, 2007, published at 72 FR 69723; Master Beneficiary Record (MBR), SSA/ORSIS 60-0090, published at 71 FR 1826 on January 11, 2006 and updated on December 10, 2007 at 72 FR 69723 and on July 5, 2013 at 78 FR 40542; Master Representative Payee File, SSA/NCC 60-0222, published on April 22, 2013 (78 FR 23811); and, Master Files of Social Security Number Holders and SSN Applications, SSA/OTSO 60-0058, published on December 29, 2010 (75 FR 82121) and updated on July 5, 2013 (78 FR 40542) and February 13, 2014 (79 FR 8780). The Alphident file comes under this system of record.

The Source Jurisdiction will provide specific data elements for individuals as specified in Attachment A. Our Data Elements Matched: SSR/SVB and MBR: Individual's SSN and payment status; Master Files of SSN Holders and SSN Applications: Individual's name, date of birth, SSN, and gender; Master Representative Payee File: Individual's SSN and status as a representative payee.

The purpose of using the Alphident file under this agreement is to locate an individual's SSN by name search. We will use the Alphident file when the Source Jurisdiction either fails to provide an SSN or provides an incorrect SSN for the named individual. The Alphident file allows us to locate the SSN by utilizing electronic data systems currently available. We match the name and date of birth data received from the Source Jurisdiction against the Alphident file. If both sets of data match only one record in our file, we assume that the SSN associated with the matched name and date of birth belongs to the person named by the Source Jurisdiction. We then treat the individual whose SSN was generated through the Alphident search in the same manner as those individuals whose SSNs provided by the Source Jurisdiction matched our records. If the name of an individual matches with a single SSN in our records, we assume that the SSN associated with the matching record belongs to the individual in the Source Jurisdiction's records, even if the date of birth does not match. We then considers this a matched item.

E. Inclusive Dates of the Matching Program

The effective date of this matching program is April 10, 2017, provided that the following notice periods have lapsed: 30 days after publication of this notice in the Federal Register and 40 days after notice of the matching program is sent to Congress and OMB. The matching program will continue for 18 months from the effective date and, if both agencies meet certain conditions, it may extend for an additional 12 months thereafter.

[FR Doc. 2016-26862 Filed 11-7-16; 8:45 am]

BILLING CODE 4191-02-P